DEPARTMENT OF COMMERCE

International Trade Administration

Notice of Scope Rulings

AGENCY: Enforcement and Compliance, International Trade Administration, Department of Commerce.

SUMMARY: The Department of Commerce (Commerce) hereby publishes a list of scope rulings and anti-circumvention determinations made during the period April 1, 2020 through June 30, 2020. We intend to publish future lists after the close of the next calendar quarter.

DATES: Applicable September 28, 2020.

FOR FURTHER INFORMATION CONTACT: Marcia E. Short, AD/CVD Operations, Customs Liaison Unit, Enforcement and Compliance, International Trade Administration, U.S. Department of Commerce, 1401 Constitution Avenue NW, Washington, DC 20230; telephone: 202-482-1560.

SUPPLEMENTARY INFORMATION:

Background

Commerce regulations provide that it will publish in the Federal Register a list of scope rulings on a quarterly basis.¹ Our most recent notification of scope rulings was published on June 9, 2020.² This current notice covers all scope rulings and anti-circumvention determinations made by Enforcement and Compliance between April 1, 2020 through June 30, 2020.

¹ See 19 CFR 351.225(o).

² See Notice of Scope Rulings, 85 FR 35261 (June 9, 2020).

Scope Rulings Made April 1, 2020 Through June 30, 2020

Canada

A-122-857 and C-122-858: Softwood Lumber Products From Canada

Requestor: Harmer Steel Products Co. Finished railroad ties are covered by the scope of the antidumping and countervailing duty orders on softwood lumber products from Canada because they are of softwood lumber, sawn to size, of a width exceeding six inches, and are not considered “finished products” as defined by the scope because, at importation, they require further processing and cannot be readily differentiated from subject merchandise; June 30, 2020.

People's Republic of China (China)

A-475-832 and C-475-833; A-570-026 and C-570-027: Certain Corrosion-Resistant Steel Products From Italy and ³

³ This scope ruling was inadvertently left out of the previous Quarterly Scope Federal Register Notice that published on June 9, 2020 (85 FR 35261).

Requestor: Trendium Pool Products, Inc. Per the CIT's instructions, Commerce revised an earlier determination regarding above-ground pool kits and pool walls manufactured by Trendium. Pool kit and pool wall components produced by Trendium from Italian- and Chinese-origin CORE are not covered by the scope of the orders on CORE from Italy and China because the plain language of the orders excludes downstream products such as pool kits, and because Commerce erred in conducting Mid Continent's two-step analysis on pool kits (which the CIT found to be finished goods); March 19, 2020.

A-570-932: Certain Steel Threaded Rod From China

Requester: All-Pro Fasteners, Inc. ASTM A449 hot-dipped galvanized all-threaded rods and studs are not covered by the scope of the antidumping duty order on certain steel threaded rod from China because they are heat treated/through-hardened, consistent with ASTM A449, and include a “A449” marking on the head; April 8, 2020.

A-570-092: Mattresses From China

Requestor: Arm's Reach Concepts, Inc. Bassinet pads are not covered by the scope of the antidumping duty order on mattresses from China because they do not meet the definition of “youth” or “adult” mattresses as outlined in the scope, and the scope covers only youth and adult mattresses; May 6, 2020.

A-570-088 and C-570-089: Certain Steel Racks and Parts Thereof From China

Requestor: FlexSteel Pipeline Technologies, Inc. Certain coil skids are not covered by the scope of the antidumping and countervailing duty orders on certain steel racks and parts thereof from China because they do not meet the description of subject merchandise; May 11, 2020.

A-570-967 and C-570-968: Aluminum Extrusions From China

Requestor: China Customs Manufacturing, Inc. and Greentec Engineering, LLC. ROCK-IT 3.0 solar roof mountings are covered by the scope of the antidumping and countervailing duty orders on aluminum extrusions from China because they consist of aluminum extrusion components that are attached to form subassemblies, and they lack the necessary components that would allow them to function as a finished solar panel mounting system; May 14, 2020.

A-570-028: Hydrofluorocarbon Blends From the People's Republic of China

Requestor: Choice Refrigerants. Unpatented R-421A produced in China was found to not be covered by the scope of the antidumping duty order on hydrofluorocarbon blends from China because the scope only covered five hydrofluorocarbon (HFC) blends, and unpatented R-421A is not one of the five blends. However, because the goods were found to be circumventing the order, unpatented R-421A produced in China was brought under the antidumping duty order on HFC blends from China. See the anti-circumvention section below; June 4, 2020.

A-570-601: Antidumping Duty Order on Tapered Roller Bearings and Parts Thereof, Finished and Unfinished, From China

Requestor: Precision Components Inc. Tapered roller bearing components which have been green machined but not heat treated, are covered by the scope of the antidumping order on tapered roller bearings and parts thereof, finished and unfinished, from China based on the totality of our analysis of the plain language of the scope and the criteria set forth under 19 CFR 351.225(k)(1) and (2); June 12, 2020.

A-570-090 and C-570-091: Certain Steel Wheels 12 to 16.5 Inches in Diameter From China

Requestor: U.S. Wheel Corp (U.S. Wheel). Certain models of U.S. Wheel's passenger vehicle and light truck wheels, discs, and rims are outside the scope of the antidumping and countervailing duty orders because they have: (1) Larger offsets; (2) different hub bore sizes; and/or (3) lower load ratings that make them unsuitable for use on trailers or towable equipment; June 26, 2020.

Thailand

A-549-502: Circular Welded Pipe and Tubes From Thailand

Self-initiated by Commerce. Based on our analysis pursuant to 19 CFR 351.225(k)(1), line pipe, stenciled only as line pipe, is not covered by the scope of the order, products which are dual-stenciled (i.e., stamped to indicate compliance with two different specifications, such as ASTM A53 and API 5L) as standard pipe and line pipe are within the scope of the order; June 30, 2020.

Anti-Circumvention Determinations Made April 1, 2020 Through June 30, 2020

Unpatented R-421A produced in China was found to be circumventing and is now subject to the antidumping duty order on HFC blends from China; June 4, 2020.

Mexico

A-201-844: Steel Concrete Reinforcing Bar (Rebar) From Mexico

Imports of otherwise straight rebar bent on one or both ends (hooked rebar) from Mexico that is produced and/or exported by Deacero S.A.P.I. de C.V. (Deacero) are circumventing the antidumping duty order on steel concrete reinforcing bar from Mexico and are now covered by the order; May 29, 2020.

Notification to Interested Parties

Interested parties are invited to comment on the completeness of this list of completed scope inquiries and anti-circumvention determinations made during the period April 1, 2020 through June 30, 2020. Any comments should be submitted to the Deputy Assistant Secretary for AD/CVD Operations, Enforcement and Compliance, International Trade Administration, 1401 Constitution Avenue NW, APO/Dockets Unit, Room 18022, Washington, DC 20230.

This notice is published in accordance with 19 CFR 351.225(o).

Dated: September 22, 2020.
James Maeder,
Deputy Assistant Secretary for Antidumping and Countervailing Duty Operations.

[FR Doc. 2020-21366 Filed 9-25-20; 8:45 am]

BILLING CODE 3510-DS-P